Proclamation 7617 of October 31, 2002

National Alzheimer's Disease Awareness Month, 2002

By the President of the United States of America

A Proclamation

Alzheimer's Disease robs its victims of their independence and identity and greatly affects the lives of their loved ones. This disease and other forms of dementia afflict approximately 50 percent of Americans age 85 and older. Due to the rapid growth of our elderly population, experts expect that the number of individuals who will develop this debilitating illness will dramatically increase. As we observe National Alzheimer's Disease Awareness Month, we rededicate ourselves to fighting this devastating affliction and to supporting Alzheimer's patients, their families, and their caregivers.

Alzheimer's Disease harms its victims by altering the brain's chemistry and disrupting signals to the brain by attacking cells, nerves, and transmitters. Those who develop Alzheimer's Disease may experience memory lapses, confusion, or mood swings. They can also become withdrawn and depressed due to lost confidence, and they have significant problems communicating. These symptoms usually worsen over time and, in most cases, patients eventually need help with all of their daily activities.

Researchers at the National Institutes of Health (NIH) and in the private sector are working to understand how Alzheimer's develops. We hope that their advances will lead to new methods for early diagnosis, new medications that will aid Alzheimer's patients in all stages of the disease, and ultimately a cure for this debilitating illness. Recent studies suggest that commonly used substances, including certain vitamins and anti-inflammatory drugs, may help prevent Alzheimer's Disease. In addition, we are working to increase understanding of the genetic and nongenetic risk factors that may influence the development of this disease.

As we continue to pursue better prevention and treatment regimes, we remain committed to caring for those now afflicted with Alzheimer's disease. Alzheimer's patients generally live for an average of 8 to 10 years after they are diagnosed. As the disease progresses, patients require increased support from families and caregivers.

Scientists at the NIH and the Department of Veterans Affairs are continuing their research to help improve patient care and ease the burdens of caregivers at home and in nursing facilities. The Administration on Aging is working to develop best practices for serving persons with Alzheimer's disease and assisting States as they attempt to improve their responsiveness and the accessibility of home and community-based long-term care services and other support resources. My Administration is increasing access to available information, education, and referrals about diagnostic and treatment services for those afflicted with Alzheimer's Disease.

During National Alzheimer's Disease Awareness Month, I commend the members of our research community for their commitment to improving diagnosis and treatment for Alzheimer's Disease; and I encourage those suffering from or at risk for Alzheimer's to participate in clinical treatment studies and therapy trials. These studies and trials have been and continue to be an important part of our progress against this disease. I also commend the families and caregivers of individuals suffering from Alzheimer's disease who provide the care and support to their loved ones and carry the daily burden of this tragic disease.

NOW, THEREFORE, I, GEORGE W. BUSH, President of the United States of America, by virtue of the authority vested in me by the Constitution and laws of the United States, do hereby proclaim November 2002 as National Alzheimer's Disease Awareness Month. I call upon the people of the United States to observe this month with appropriate programs and activities.

IN WITNESS WHEREOF, I have hereunto set my hand this thirty-first day of October, in the year of our Lord two thousand two, and of the Independence of the United States of America the two hundred and twenty-seventh.

B

[FR Doc. 02-28259

Filed 11-4-02; 8:45 am]

Billing code 3195-01-P